DEPARTMENT OF LABOR

Office of Disability Employment Policy

Advisory Committee on Increasing Competitive Integrated Employment for Individuals With Disabilities; Notice of Meeting

The Advisory Committee on Increasing Competitive Integrated Employment for Individuals with Disabilities (the Committee) was mandated by section 609 of the Rehabilitation Act of 1973, as amended by section 461 of the Workforce Innovation and Opportunity Act (WIOA). The Secretary of Labor established the Committee on September 15, 2014 in accordance with the provisions of the Federal Advisory Committee Act (FACA), as amended, 5 U.S.C. App. 2. The purpose of the Committee is to study and prepare findings, conclusions and recommendations for Congress and the Secretary of Labor on (1) ways to increase employment opportunities for individuals with intellectual or developmental disabilities or other individuals with significant disabilities in competitive, integrated employment; (2) the use of the certificate program carried out under section 14(c) of the Fair Labor Standards Act (FLSA) of 1938 (29 U.S.C. 214(c)); and (3) ways to improve oversight of the use of such certificates.

The Committee is required to meet no less than eight times. It is also required to submit an interim report to the Secretary of Labor; the Senate Committee on Health, Education, Labor and Pensions; and the House Committee on Education and the Workforce within one year of the Committee's establishment. A final report must be submitted to the same entities no later than two years from the Committee establishment date. The Committee terminates one day after the submission of the final report.

The next meeting of the Committee will be open to the public and take place by Webinar on Monday, May 11, 2015 and Tuesday, May 12, 2015. The meeting will take place each day from 1:00 p.m. to 5:00 p.m., Eastern Daylight Time (EDT).

On May 11th and 12th, the Committee will hear expert testimony on a number of topics, including, but not limited to: Section 503 of the Rehabilitation Act, as amended, by representatives from the U.S. Department of Labor's (DOL) Office of Federal Contract Compliance Programs; and services for jobseekers with significant disabilities under WIOA by representatives from the U.S. Department of Education's Rehabilitation Services Administration and DOL's Employment and Training Administration. In addition, the Committee's four subcommittees will report to the whole Committee on their efforts to date and will discuss next steps in their work. The four subcommittees are: The Transition to Careers Subcommittee, the Complexity and Needs in Delivering Competitive Integrated Employment Subcommittee, the Marketplace Dynamics Subcommittee, and the Building State and Local Capacity Subcommittee. The full Committee will deliberate on the subcommittee reports and presentations.

Members of the public wishing to participate in the Webinar must register in advance of the meeting, by Monday, May 4th, using the following link— http://bit.ly/ACICIEID. This link will register members of the public for both days of the May meeting.

Members of the public who wish to address the committee during the public comment period of the meeting on Monday, May 11th from 3:00 p.m. to 4:00 p.m. (EDT), should send their name, their organization's name (if applicable) and any additional materials (such as a copy of the proposed testimony) to IntegratedCompetitiveEmployment@dol.gov or call David Berthiaume at DOL's Office of Disability Employment Policy at (202) 693-7887 by Monday, May 4th. Please ensure that any attachments are in an accessible format or the submission will be returned. Also, note that public comments will be limited to 3 minutes in length. Due to time constraints, we will be able to accommodate up to 15 requests to address the committee. If more than 15 requests are received, we will select a representative sample to speak and the remainder will be permitted to file written statements. Individuals with disabilities who need accommodations should also contact Mr. Berthiaume at the email address or phone number above.

Organizations or members of the public wishing to submit a written statement may do so by submitting 30 copies on or before May 4, 2015 to Mr. Berthiaume, Advisory Committee on Increasing Competitive Integrated Employment for Individuals with Disabilities, U.S. Department of Labor, Suite S-1303, 200 Constitution Avenue NW., Washington, DC 20210. Statements also may be submitted as email attachments to IntegratedCompetitiveEmployment@dol.gov. Please ensure that any written submission is in an accessible format or the submission will be returned. Further, it is requested that statements not be included in the body of an email. Statements deemed relevant by the Committee and received on or before May 4, 2015 will be included in the record of the meeting. Do not include any personally identifiable information (such as name, address, or other contact information) or confidential business information that you do not want publicly disclosed.

Signed at Washington, DC, this day 16 of April, 2015,
Jennifer Sheehy,
Acting Assistant Secretary, Office of Disability Employment Policy.

[FR Doc. 2015-09254 Filed 4-21-15; 8:45 am]

BILLING CODE 4510-23-P